DEPARTMENT OF ENERGY

Federal Energy Regulatory Commission

[Docket No. IC12-7-000]

Commission Information Collection Activities (FERC-587); Comment Request

AGENCY: Federal Energy Regulatory Commission, DOE.

ACTION: Comment request.

SUMMARY: In compliance with the requirements of the Paperwork Reduction Act of 1995, 44 United States Code (U.S.C.) 3507(a)(1)(D), the Federal Energy Regulatory Commission (Commission or FERC) is submitting the information collection FERC-587, Land Description (Public Land States/Non-Public Land States [Rectangular or Non-Rectangular Survey System Lands in Public Land States]) to the Office of Management and Budget (OMB) for review of the information collection requirements. Any interested person may file comments directly with OMB and should address a copy of those comments to the Commission as explained below. The Commission issued a Notice in the Federal Register (77 FR 11518, 02/27/2012) requesting public comments. FERC received no comments on the FERC-587 and is making this notation in its submittal to OMB.

DATES: Comments on the collection of information are due by June 28, 2012.

ADDRESSES: Comments filed with OMB, identified by the OMB Control No. 1902-0145, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC12-7-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-587, Land Description (Public Land States/Non-Public Land States [Rectangular or Non-Rectangular Survey System Lands in Public Land States]).

OMB Control No.: 1902-0145.

Type of Request: Three-year extension of the FERC-587 information collection requirements with no changes to the reporting requirements.

Abstract: The Commission requires the FERC-587 information collection to satisfy the requirements of section 24 of the Federal Power Act (FPA). The Federal Power Act grants the Commission authority to issue licenses for the development and improvement of navigation and for the development, transmission, and utilization of power across, along, from or in any of the steams or other bodies of water over which Congress has jurisdiction.¹ The Electric Consumers Protection Act (ECPA) amended the FPA to allow the Commission the responsibility of issuing licenses for nonfederal hydroelectric plants.² Section 24 of the FPA requires that applicants proposing hydropower projects on (or changes to existing projects located within) lands owned by the United States to provide a description of the applicable U.S. land. Additionally, the FPA requires the notification of the Commission and Secretary of the Interior of the hydropower proposal. FERC-587 consolidates the information required and identifies hydropower project boundary maps associated with the applicable U.S. land.

¹ 16 U.S.C. 797d (2010).

² Public Law 99-495, 100 Stat. 1243 (1996).

The information consolidated by the Form No. 587 verifies the accuracy of the information provided for the FERC-587 to the Bureau of Land Management (BLM) and the Department of the Interior (DOI). Moreover, this information ensures that U.S. lands can be reserved as hydropower sites and withdrawn from other uses.

Type of Respondents: Applicants proposing hydropower projects on (or changes to existing projects located within) lands owned by the United States.

Estimate of Annual Burden: ³ The Commission estimates the total Public Reporting Burden for this information collection as:

³ Burden is defined as the total time, effort, or financial resources expended by persons to generate, maintain, retain, or disclose or provide information to or for a Federal agency. For further explanation of what is included in the information collection burden, reference 5 Code of Federal Regulations 1320.3.

FERC-587 (IC12-7-000): Land Description (Public Land States/Non-Public Land States [Rectangular or Non-Rectangular Survey System Lands in Public Land States])
| Number of respondents | Number of responses per respondent | Total number of responses | Average burden hours per response | Estimated total annual burden
| (A) | (B) | (A) × (B) = (C) | (D) | (C) × (D)
Hydropower Project Applicants | 250 | 1 | 250 | 1 | 250

The total estimated annual cost burden to respondents is $17,252 [250 hours ÷ 2,080 ⁴ hours/year = 0.12019 * $143,540/year ⁵ = $17,252].

⁴ 2080 hours = 40 hours/week * 52 weeks (1 year).

⁵ Average annual salary per employee in 2012.

The estimated annual cost of filing the FERC-587 per response is $69 [$17,252 ÷ 250 responses = $69/response].

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 21, 2012.
Kimberly D. Bose,
Secretary.

[FR Doc. 2012-12869 Filed 5-25-12; 8:45 am]

BILLING CODE 6717-01-P